FEDERAL TRADE COMMISSION

Sunshine Act Meeting Notice

AGENCY: Federal Trade Commission.

Time and Date: 2 p.m., Wednesday, November 15, 2006.

Place: Federal Trade Commission Building, Room 532, 600 Pennsylvania Avenue, NW., Washington, DC 20580.

Status: Part of this meeting will be open to the public. The rest of the meeting will be closed to the public.

Matters to Be Considered: Portion Open to the Public:

(1) Oral Argument in Rambus Incorporated, Docket 9302.

Portion Closed to the Public:

(2) Executive Session to follow Oral Argument in Rambus Incorporated, Docket 9302.

FOR FURTHER INFORMATION CONTACT: Mitch Katz, Office of Public Affairs: (202) 326-2180. Recorded Message: (202) 326-2711.

Donald S. Clark,
Secretary.

[FR Doc. 06-8783 Filed 10-16-06; 1:01 pm]

BILLING CODE 6750-01-M